DEPARTMENT OF TRANSPORTATION

Federal Aviation Administration

Notice of Intent To Change the Use of Specific of Land From Aeronautical to Non-Aeronautical use on the Baton Rouge Metropolitan Airport, Baton Rouge, LA

AGENCY: Federal Aviation Administration (FAA), DOT.

ACTION: Request for public comment.

SUMMARY: The FAA is publishing notice of a proposed change of status of about 15 +/- acres of land on the Baton Rouge, Louisiana. The FAA invites public comment on the status change of this land under Title 49, United States Code Section 47153(c). The land status change will allow the primary airport access road known as Veteran's Boulevard to be extended from the end that is now found approximately the middle of the airport on to the northern boundary of the airport. No land barter is involved and it shall remain airport property on the Airport Layout Plan. This extension will allow development of the northwest portion of the airport for revenue producing activities. It will also provide public access to the terminal and aeronautical areas from the northern areas of the city of Baton Rouge and other suburban communities.

DATES: Comments must be received on or before August 30, 2007.

ADDRESSES: Comments on this application may be mailed or delivered to the FAA at the following address: Mr. Lacey D. Spriggs, Manager, Federal Aviation Administration, Southwest Region, Airports Division, LA/NM Airports Development Office, ASW-640, Fort Worth, Texas 76193-0640.

In addition, one copy of any comments submitted to the FAA must be mailed or delivered to Mr. Anthony Marino, Director of Aviation, Baton Rouge Metropolitan Airport, at the following address: Director of Aviation, Baton Rouge Metropolitan Airport 9340 Jackie Cochran Dr., Suite 300, Baton Rouge, LA 70807.

FOR FURTHER INFORMATION CONTACT: Ms. Ilia A. Quinones, Program Manager, Federal Aviation Administration, LA/NM Airports Development Office, ASW-640, 2601 Meacham Blvd. Fort Worth, Texas 76137-4298.

The request to release property may be reviewed in person at this same location.

Issued at Fort Worth, Texas, on July 23, 2007.
James M. Nicely,
Acting Manager, Airports Division.

[FR Doc. 07-3719 Filed 7-30-07; 8:45 am]

BILLING CODE 4910-13-M